Memorandum of December 22, 2005

Order of Succession of Officers to Act as Secretary of Defense

Memorandum for the Secretary of Defense

By the authority vested in me as President by the Constitution and the laws of the United States of America, including the Federal Vacancies Reform Act of 1998, 5 U.S.C. 3345 et. seq., and notwithstanding the Executive Order I issued today entitled, “Providing an Order of Succession within the Department of Defense” (the order), it is hereby ordered as follows:

(1) Subject to the provisions of paragraphs 2 and 4 of this memorandum, the Acting Deputy Secretary of Defense, as designated by the President, shall act as and perform the functions and duties of the office of the Secretary of Defense (Secretary) during any period when the Secretary has died, resigned, or is otherwise unable to perform functions and duties of the office of the Secretary.

(2) The provisions of paragraph 1 of this memorandum shall only apply if, at the time of the death, resignation, or inability of the Secretary, the Acting Deputy Secretary of Defense meets one or more of the criteria established in section 3345(a)(1)-(3) of title 5, United States Code.

(3) In all other respects, the order shall remain in effect.

(4) The authority of this memorandum shall terminate upon the first appointment by the President of a Deputy Secretary of Defense to occur subsequent to this memorandum, unless sooner terminated by operation of law or by the President.

(5) You are authorized and directed to publish this memorandum in the Federal Register.

B

THE WHITE HOUSE,

Washington, December 22, 2005.

[FR Doc. 05-24598

Filed 12-23-05; 12:29 pm]

Billing code 5004-04-P